DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action(s)

On June 11, 2024, OFAC determined that the property and interests in property subject to U.S. jurisdiction of the following persons are blocked under the relevant sanctions authority listed below.

Individuals

1. THOMAS, Mae Toussaint (a.k.a. THOMAS, Mae Toussaint Jr.; a.k.a. “THOMAS, Mae”), 5 Camp Street, Werk-en-Rust, Georgetown, Guyana; DOB 12 Feb 1986; POB Georgetown, Guyana; nationality Guyana; Gender Female; Passport R0459307 (Guyana) expires 15 Apr 2019; National ID No. 111801231 (Guyana) (individual) [GLOMAG].

Designated pursuant to section 1(a)(ii)(B)(1) of Executive Order (E.O.) 13818 of December 20, 2017, “Blocking the Property of Persons Involved in Serious Human Rights Abuse or Corruption,” 82 FR 60839 (Dec. 26, 2017) (E.O. 13818 or the “Order”) for being a foreign person who is a current or former government official, or a person acting for or on behalf of such an official, who is responsible for or complicit in, or has directly or indirectly engaged in, corruption, including the misappropriation of state assets, the expropriation of private assets for personal gain, corruption related to government contracts or the extraction of natural resources, or bribery.

2. MOHAMED, Azruddin Intiaz (a.k.a. MOHAMED, Azruddin; a.k.a. “MOHAMED, Azadeen”; a.k.a. “MOHAMED, Azurdeen”), Lot 3 Felicity Drive, East Coast Demerara, Guyana; DOB 01 Mar 1987; POB Georgetown, Guyana; nationality Guyana; Gender Male; Passport R0429399 (Guyana); alt. Passport A033726 (individual) [GLOMAG].

Designated pursuant to section 1(a)(iii)(A)(1) of E.O. 13818 for having materially assisted, sponsored, or provided financial, material, or technological support for, or goods or services to or in support of, corruption, including the misappropriation of state assets, the expropriation of private assets for personal gain, corruption related to government contracts or the extraction of natural resources, or bribery, that is conducted by a foreign person.

3. MOHAMED, Nazar (a.k.a. “MOHAMMED, Nazar”), Lot 275 Barrow Street, Demerara, Guyana; DOB 27 Mar 1953; POB Essequibo Coast, Guyana; nationality Guyana; Gender Male; Passport A005493 (Guyana); alt. Passport R1163199 (Guyana) (individual) [GLOMAG] (Linked To: MOHAMED'S ENTERPRISE).

Designated pursuant to section 1(a)(ii)(C)(2) of E.O. 13818 for being a foreign person who is or has been a leader or official of an entity whose property and interests in property are blocked pursuant to E.O. 13818 as a result of activities related to the leader's or official's tenure.

Entities

1. TEAM MOHAMED'S RACING TEAM (a.k.a. “TEAM MOHAMED'S”), Guyana; Organization Established Date 2013; Organization Type: Activities of sports clubs [GLOMAG] (Linked To: MOHAMED, Azruddin Intiaz).

Designated pursuant to section 1(a)(iii)(B) of E.O. 13818 for being owned or controlled by, or having acted or purported to act for or on behalf of, directly or indirectly, MOHAMED, Azruddin Intiaz, a person whose property and interests in property are blocked pursuant to the Order.

2. HADI'S WORLD INCORPORATED (a.k.a. “HADI'S WORLD”; a.k.a. “HADI'S WORLD INC”), 29 Lombard Street, Werk-en-Rust, Georgetown, Guyana; Organization Established Date 29 Sep 2009; Organization Type: Mining and Quarrying [GLOMAG] (Linked To: MOHAMED'S ENTERPRISE).

Designated pursuant to section 1(a)(iii)(B) of E.O. 13818 for being owned or controlled by, or having acted or purported to act for or on behalf of, directly or indirectly, MOHAMED'S ENTERPRISE, a person whose property and interests in property are blocked pursuant to the Order.

3. MOHAMED'S ENTERPRISE (a.k.a. MOHAMED ENTERPRISES; a.k.a. MOHAMEDS ENTERPRISE; a.k.a. “CONFIDENTIAL CAMBIO”), Lot 29 Lombard Street, Georgetown, Guyana; Organization Established Date 1993; Organization Type: Mining and Quarrying [GLOMAG].

Designated pursuant to section 1(a)(iii)(A)(1) of E.O. 13818 for having materially assisted, sponsored, or provided financial, material, or technological support for, or goods or services to or in support of, corruption, including the misappropriation of state assets, the expropriation of private assets for personal gain, corruption related to government contracts or the extraction of natural resources, or bribery, that is conducted by a foreign person.

Dated: June 11, 2024.
Bradley T. Smith,
Director, Office of Foreign Assets Control, U.S. Department of the Treasury.

[FR Doc. 2024-13197 Filed 6-14-24; 8:45 am]

BILLING CODE 4810-AL-P